FEDERAL DEPOSIT INSURANCE CORPORATION

Agency Information Collection Activities: Submission for OMB Review; Comment Request

AGENCY: Federal Deposit Insurance Corporation (FDIC).

ACTION: Notice of information collection to be submitted to OMB for review and approval under the Paperwork Reduction Act of 1995.

SUMMARY: In accordance with requirements of the Paperwork Reduction Act of 1995 (44 U.S.C. 3501 et seq.), the FDIC hereby gives notice that it plans to submit to the Office of Management and Budget (OMB) a request for OMB review and approval of the information collection system described below.

Type of Review: Renewal of collection.

Title: Transfer Agent Registration and Amendment Form.

OMB Number: 3064-0026.

Estimate of Annual Burden:

Number of respondents: 18.

Frequency of response: Occasional.

Total annual responses: 6 initial registrations and 12 amendments.

Time per response: 1.25 hours per initial registration and .75 hours per amendment.

Total annual burden: 17 hours.

Comment Date: Comments on this collection of information are welcome and should be submitted on or before July 30, 2004, to both the OMB reviewer and the FDIC contact listed below.

ADDRESSES: OMB: Mark Menchik, (202) 395-5611, Office of Information and Regulatory Affairs, Office of Management and Budget, New Executive Office Building, Washington, DC 20503. FDIC: Thomas Nixon, Legal Division (202) 898-8766, Federal Deposit Insurance Corporation, 550 17th Street, NW., Washington, DC 20429.

SUPPLEMENTARY INFORMATION: The information collection takes the form of Form TA-1, which is used by insured nonmember banks and their direct subsidiaries to register with the FDIC as transfer agents, as required by the Securities Exchange Act of 1934 and Part 341 (12 CFR) of the FDIC Rules and Regulations. Information about this submission may be obtained by calling or writing the FDIC contact listed above.

Dated: June 24, 2004.
Federal Deposit Insurance Corporation.
Robert E. Feldman,
Executive Secretary.

[FR Doc. 04-14751 Filed 6-29-04; 8:45 am]

BILLING CODE 6714-01-P